DEPARTMENT OF ENERGY

Federal Energy Regulatory Commission

Combined Notice of Filings #1

Take notice that the Commission received the following exempt wholesale generator filings:

Docket Numbers: EG22-106-000.

Applicants: Bell Ridge Solar, LLC.

Description: Bell Ridge Solar, LLC submits Notice of Self-Certification of Exempt Wholesale Generator Status.

Filed Date: 4/27/22.

Accession Number: 20220427-5398.

Comment Date: 5 p.m. ET 5/18/22.

Take notice that the Commission received the following electric rate filings:

Docket Numbers: ER10-3097-014.

Applicants: Bruce Power Inc.

Description: Notice of Change in Status of Bruce Power Inc.

Filed Date: 4/28/22.

Accession Number: 20220428-5514.

Comment Date: 5 p.m. ET 5/19/22.

Docket Numbers: ER18-2511-002.

Applicants: NorthWestern Corporation.

Description: Supplement to March 3, 2022 Notice of Change in Status of NorthWestern Corporation.

Filed Date: 4/29/22.

Accession Number: 20220429-5168.

Comment Date: 5 p.m. ET 5/20/22.

Docket Numbers: ER18-2511-003.

Applicants: NorthWestern Corporation.

Description: Notice of Change in Status of NorthWestern Corporation.

Filed Date: 4/28/22.

Accession Number: 20220428-5476.

Comment Date: 5 p.m. ET 5/19/22.

Docket Numbers: ER20-1736-004.

Applicants: Emera Maine.

Description: Compliance filing: Versant Power submits tariff filing per 35: MPD Order No. 864 Compliance Filing (ER20-1736-) to be effective 1/27/2020.

Filed Date: 4/29/22.

Accession Number: 20220429-5025.

Comment Date: 5 p.m. ET 5/20/22.

Docket Numbers: ER21-1498-002; ER21-2279-002.

Applicants: Iron Star Wind Project, LLC, Hawtree Creek Farm Solar, LLC.

Description: Notice of Change in Status of Hawtree Creek Farm Solar, LLC, et al.

Filed Date: 4/28/22.

Accession Number: 20220428-5485.

Comment Date: 5 p.m. ET 5/19/22.

Docket Numbers: ER21-2713-001; ER21-2714-001.

Applicants: SE Athos II, LLC, SE Athos I, LLC.

Description: Notice of Change in Status of SE Athos I, LLC, et al.

Filed Date: 4/28/22.

Accession Number: 20220428-5507.

Comment Date: 5 p.m. ET 5/19/22.

Docket Numbers: ER22-895-001.

Applicants: Southwest Power Pool, Inc.

Description: Tariff Amendment: 3908 T.

Filed Date: 4/29/22.

Accession Number: 20220429-5161.

Comment Date: 5 p.m. ET 5/20/22.

Docket Numbers: ER22-1591-000.

Applicants: Starion Energy NY, Inc.

Description: Starion Energy NY, Inc. submits Request for Cancellation of Market Based Rate Tariff.

Filed Date: 4/27/22.

Accession Number: 20220427-5117.

Comment Date: 5 p.m. ET 5/18/22.

Docket Numbers: ER22-1709-000.

Applicants: Tampa Electric Company.

Description: § 205(d) Rate Filing: Updated Real Power Loss Factor—2022 to be effective 5/1/2022.

Filed Date: 4/28/22.

Accession Number: 20220428-5333.

Comment Date: 5 p.m. ET 5/19/22.

Docket Numbers: ER22-1710-000.

Applicants: Duke Energy Florida, LLC.

Description: § 205(d) Rate Filing: DEF 2022 Annual Filing of Cost Factor Updates to be effective 5/1/2022.

Filed Date: 4/28/22.

Accession Number: 20220428-5349.

Comment Date: 5 p.m. ET 5/19/22.

Docket Numbers: ER22-1712-000.

Applicants: Starion Energy Inc.

Description: Notice of Cancellation of Market Based Rate Tariff of Starion Energy Inc.

Filed Date: 4/27/22.

Accession Number: 20220427-5399.

Comment Date: 5 p.m. ET 5/18/22.

Docket Numbers: ER22-1713-000.

Applicants: Midcontinent Independent System Operator, Inc.

Description: § 205(d) Rate Filing: 2022-04-29_SA 2963 MidAmerican-MidAmerican 3rd Rev GIA (J498) to be effective 4/20/2022.

Filed Date: 4/29/22.

Accession Number: 20220429-5022.

Comment Date: 5 p.m. ET 5/20/22.

Docket Numbers: ER22-1715-000.

Applicants: Mid-Atlantic Interstate Transmission, LLC, PJM Interconnection, L.L.C.

Description: § 205(d) Rate Filing: Mid-Atlantic Interstate Transmission, LLC submits tariff filing per 35.13(a)(2)(iii: MAIT submits revised Interconnection Agreement, SA No. 4578 to be effective 6/29/2022.

Filed Date: 4/29/22.

Accession Number: 20220429-5041.

Comment Date: 5 p.m. ET 5/20/22.

Docket Numbers: ER22-1716-000.

Applicants: PJM Interconnection, L.L.C.

Description: § 205(d) Rate Filing: Original WMPA, Service Agreement No. 6424; Queue No. AG1-246 to be effective 3/30/2022.

Filed Date: 4/29/22.

Accession Number: 20220429-5049.

Comment Date: 5 p.m. ET 5/20/22.

Docket Numbers: ER22-1718-000.

Applicants: Southwest Power Pool, Inc.

Description: § 205(d) Rate Filing: 1276R25 Evergy Metro NITSA NOA to be effective 7/1/2022.

Filed Date: 4/29/22.

Accession Number: 20220429-5070.

Comment Date: 5 p.m. ET 5/20/22.

Docket Numbers: ER22-1719-000.

Applicants: Southwest Power Pool, Inc.

Description: § 205(d) Rate Filing: Revisions to Establish Zonal Planning Criteria to be effective 6/29/2022.

Filed Date: 4/29/22.

Accession Number: 20220429-5120.

Comment Date: 5 p.m. ET 5/20/22.

Docket Numbers: ER22-1720-000.

Applicants: Midcontinent Independent System Operator, Inc.

Description: § 205(d) Rate Filing: 2022-04-29_SA 3824 UEC-Guthrie Solar FSA (J994) to be effective 6/29/2022.

Filed Date: 4/29/22.

Accession Number: 20220429-5122.

Comment Date: 5 p.m. ET 5/20/22.

Docket Numbers: ER22-1721-000.

Applicants: Southwest Power Pool, Inc.

Description: § 205(d) Rate Filing: 1628R21 Western Farmers Electric Cooperative NITSA NOAs to be effective 4/1/2022.

Filed Date: 4/29/22.

Accession Number: 20220429-5123.

Comment Date: 5 p.m. ET 5/20/22.

Docket Numbers: ER22-1722-000.

Applicants: Upper Missouri G. & T. Electric Cooperative, Inc.

Description: § 205(d) Rate Filing: Revised Rate Schedules FERC Nos. 3, 4, 7, 8, 9, and 10 to be effective 6/29/2022.

Filed Date: 4/29/22.

Accession Number: 20220429-5131.

Comment Date: 5 p.m. ET 5/20/22.

Docket Numbers: ER22-1723-000.

Applicants: Southern California Edison Company.

Description: Tariff Amendment: GIA DSA CBSA Mountain View Power Partners WDT1012 WDT1013 to be effective 4/30/2022.

Filed Date: 4/29/22.

Accession Number: 20220429-5137.

Comment Date: 5 p.m. ET 5/20/22.

Docket Numbers: ER22-1724-000.

Applicants: EIP Investment, LLC.

Description: Baseline eTariff Filing: Baseline new to be effective 5/1/2022.

Filed Date: 4/29/22.

Accession Number: 20220429-5140.

Comment Date: 5 p.m. ET 5/20/22.

Docket Numbers: ER22-1725-000.

Applicants: PJM Interconnection, L.L.C.

Description: § 205(d) Rate Filing: Original NSA, Service Agreement No. 6449; Queue No. AE1-185 to be effective 4/1/2022.

Filed Date: 4/29/22.

Accession Number: 20220429-5144.

Comment Date: 5 p.m. ET 5/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2022.
Debbie-Anne A. Reese,
Deputy Secretary.

[FR Doc. 2022-09649 Filed 5-4-22; 8:45 am]

BILLING CODE 6717-01-P